DEPARTMENT OF HEALTH AND HUMAN SERVICES

Office of the Secretary

Findings of Research Misconduct

AGENCY: Office of the Secretary, HHS.

ACTION: Notice.

SUMMARY: Findings of research misconduct have been made on the part of Brandi M. Baughman, Ph.D., postdoctoral fellow in the Center for Integrative Chemical Biology and Drug Discovery, Division of Chemical Biology and Medicinal Chemistry, University of North Carolina at Chapel Hill (UNC). Dr. Baughman engaged in research misconduct in research supported by National Institute of General Medical Sciences (NIGMS), National Institutes of Health (NIH), grant R01 GM100919. The administrative actions, including debarment for a period of two (2) years, were implemented beginning on March 19, 2018, and are detailed below.

FOR FURTHER INFORMATION CONTACT: Wanda K. Jones, Dr. P.H., Interim Director, Office of Research Integrity, 1101 Wootton Parkway, Suite 750, Rockville, MD 20852, (240) 453-8200.

SUPPLEMENTARY INFORMATION: Notice is hereby given that the Office of Research Integrity (ORI) has taken final action in the following case:

Brandi M. Baughman, Ph.D., University of North Carolina at Chapel Hill: Based on an assessment conducted by UNC, Respondent's admission, and analysis conducted by ORI in its oversight review, ORI found that Dr. Baughman, postdoctoral fellow in the Center for Integrative Chemical Biology and Drug Discovery, Division of Chemical Biology and Medicinal Chemistry, UNC, engaged in research misconduct in research supported by NIGMS, NIH, grant R01 GM100919. A previous notice of research misconduct findings based on Respondent's prior admission (Fed. Reg. 82(117):28078-28079, 2017 July 20) included eleven (11) figures in PLoS One 11(10):e0164378, 2016 in research supported by the National Institute of Environmental and Health Sciences (NIEHS), NIH, and the National Institute of Diabetes and Digestive and Kidney Diseases (NIDDK), NIH. The Respondent has signed a statement confirming that she committed no additional instances of data manipulation.

ORI found that Respondent engaged in research misconduct by falsifying data that were included in the first submission of a manuscript to ACS Chem. Biol. (hereafter referred to as the “Manuscript”) and in the final published version: Baughman, B.M., Pattenden, S.G., Norris, J.L., James, L.I., & Frye, S.V. “The L3MBTL3 methyl-lysine reader domain functions as a dimer.” ACS Chem. Biol. 11:722-728, 2016 (hereafter referred to as “ACS 2016”). The paper was retracted in: ACS Chem. Biol. 13(1):281, 2018 Jan 19.

Respondent falsely reused and relabeled 14 individual Western blot images from an unrelated experiment conducted in September 2013 showing pulldown with biotin-UNC1215 using 0401 and HeLa overexpressed FL L3MBTL3 lysates (hereafter referred to as the “9/13 experiment”) to falsely represent Western blot analysis of GFP.Flag co-IP experiments in GFP-WT lysates in Figure 3 of the Manuscript and a supplementary analysis of co-IPs with FullL-D274A in Figure 6 of ASC 2016. Specifically, Respondent used Western blot band images from:

• Lanes 3 and 4 (GFP input and GFP Bn-1215 IP; 9/13 experiment) to represent:

○ Lanes 1 and 2 (GFP:FLAG co-IP experiments in 3MBT-GFP lysates in the presence or absence of D381A; Figure 3, Manuscript)

○ N = 3 in Figure S6, ACS 2016

• Lanes 5 and 6 (GFP/Flag Input and GFP/FlagIP; 9/13 experiment) to represent:

○ Lanes 3 and 4 (GFP:Flag co-IP experiments in FL-GFP-WT lysates; Figure 3, Manuscript)

○ N = 1 in Figure S6, ACS 2016

• Lanes 9 and 10 (mCherry input and mCherry Bn-1215 IP; 9/13 experiment) to represent:

○ Lanes 5 and 6 (GFP:FLAG co-IP experiments in FL-GFP lysates in the presence or absence of D381A; Figure 3, Manuscript)

• Lanes 11 and 12 (mCherry/Flag input and mCherry/Flag IP; 9/13 experiment) to represent:

○ Lanes 7 and 8 (GFP:FLAG co-IP experiments in FL-GFP WT lysates; Figure 3, Manuscript)

• lanes 13 and 14 (mCherry/Flag IP unbound and mCherry/Flag BN-1215; 9/13 experiment) to represent:

○ Lanes 9 and 10 (GFP:FLAG co-IP experiments in FL-GFP lysates in the presence or absence of D274A; Figure 3, manuscript

○ N = 2 in Figure S6, ACS 2016

Dr. Baughman entered into a Voluntary Exclusion Agreement. The following administrative actions have been implemented for a period of two (2) years, beginning on March 19, 2018:

(1) Because Dr. Baughman knew when she signed the 2017 Agreement with ORI that there was an additional paper with falsified figures, she agreed to exclude herself voluntarily from any contracting or subcontracting with any agency of the United States Government and from eligibility or involvement in nonprocurement programs of the United States Government referred to as “covered transactions” pursuant to HHS' Implementation (2 CFR part 376) of OMB Guidelines to Agencies on Governmentwide Debarment and Suspension, 2 CFR part 180 (collectively the “Debarment Regulations”); this Agreement supersedes the terms of the previous supervision Agreement that included three (3) years of research supervision, which began on May 17, 2017; and

(2) Dr. Baughman agreed to exclude herself voluntarily from serving in any advisory capacity to the U.S. Public Health Service (PHS) including, but not limited to, service on any PHS advisory committee, board, and/or peer review committee, or as a consultant.

Wanda K. Jones,
Interim Director, Office of Research Integrity.

[FR Doc. 2018-07521 Filed 4-11-18; 8:45 am]

BILLING CODE 4150-31-P